DEPARTMENT OF COMMERCE

International Trade Administration

(A-588-857)

Initiation of Antidumping Duty Changed Circumstances Review: Certain Welded Large Diameter Line Pipe From Japan

AGENCY: Import Administration, International Trade Administration, Department of Commerce.

SUMMARY: In accordance with section 751(b) of the Tariff Act of 1930, as amended (“the Act”), and section 351.216(b) of the U.S. Department of Commerce's (“the Department”) regulations, American Steel Pipe Division of the American Cast Iron Pipe Company, Berg Steel Pipe, and Stupp Corporation, (collectively “petitioners”) filed a request for a changed circumstances review to amend the scope of the order of the antidumping order on welded large diameter line pipe (“LDLP”) from Japan. In response to this request, the Department is initiating a changed circumstance review to determine whether to partially revoke the order with respect to LDLP from Japan as described below.

EFFECTIVE DATE: August 14, 2006

FOR FURTHER INFORMATION CONTACT: Abdelali Elouaradia or Judy Lao, Import Administration, International Trade Administration, U.S. Department of Commerce, 14th Street and Constitution Avenue, NW, Washington, DC 20230; telephone: (202) 482-1374 and (202) 482-7924, respectively.

SUPPLEMENTARY INFORMATION:

Background

On December 6, 2001, the Department published in the Federal Register the antidumping duty order on large diameter welded line pipe (“LDLP”) from Japan. See Notice of Antidumping Duty Order: Welded Large Diameter Line Pipe from Japan (66 FR 63368) December 6, 2001; see also Certain Welded Large Diameter Line Pipe From Japan: Final Results of Changed Circumstances Review, (67 FR 64870) October 22, 2002, revoking the order with respect to certain merchandise as described in the “Scope of the Order” section of this notice, for which there was no interest in continuation of the order. On July 17, 2006, petitioners requested a changed circumstances review indicating they no longer have an interest in the following product being subject to the order: API grade X-80 having an outside diameter of 21 inches and wall thickness of 0.625 inch of more.

Scope of Order

The product covered by this antidumping order is certain welded carbon and alloy line pipe, of circular cross section and with an outside diameter greater than 16 inches, but less than 64 inches, in diameter, whether or not stenciled. This product is normally produced according to American Petroleum Institute (API) specifications, including grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30, 7305.19.10.60, and 7305.19.50.00. Although the HTSUS item numbers are provided for convenience and customs purposes, the written description of the scope is dispositive. Specifically not included within the scope of this investigation is American Water Works Association (AWWA) specification water and sewage pipe, and the following size/grade combinations of line pipe:

—Having an outside diameter greater than or equal to 18 inches and less than or equal to 22 inches, with a wall thickness measuring 0.750 inch or greater, regardless of grade.

—Having an outside diameter greater than or equal to 24 inches and less than 30 inches, with wall thickness measuring greater than 0.875 inches in grades A, B, and X42, with wall thickness measuring greater than 0.750 inches in grades X52 through X56, and with wall thickness measuring greater than 0.688 inches in grades X60 or greater.

—Having an outside diameter greater than or equal to 30 inches and less than 36 inches, with wall thickness measuring greater than 1.250 inches in grades A, B, and X42, with wall thickness measuring greater than 1.000 inches in grades X52 through X56, and with wall thickness measuring greater than 0.875 inches in grades X60 or greater.

—Having an outside diameter greater than or equal to 36 inches and less than 42 inches, with wall thickness measuring greater than 1.375 inches in grades A, B, and X42, with wall thickness measuring greater than 1.250 inches in grades X52 through X56, and with wall thickness measuring greater than 1.125 inches in grades X60 or greater.

—Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

—Having an outside diameter equal to 48 inches, with a wall thickness measuring 1.0 inch or greater, in grades X-80 or greater.

—Having an outside diameter of 48 inches to and including 52 inches, and with a wall thickness of 0.90 inch or more in grade X-80.

—Having an outsides diameter of 48 inches to and including 52 inches, and with a wall thickness of 0.54 inch or more in grade X100.

Initiation of Changed Circumstances Review

Pursuant to section 751(b)(1) of the Act, the Department will conduct a changed circumstances review upon receipt of information concerning, or a request from an interested party for a review of an AD duty order which shows changed circumstances sufficient to warrant a review of the order. As noted above, on July 17, 2006, petitioners requested, in accordance with 19 CFR 351.216(b), that the Department revoke the order with respect to API grade X-80 having an outside diameter of 21 inches, and with a wall thickness of 0.625 inch or more because they lack interest in continuation of the order with respect to this product. Therefore, pursuant to section 751(b)(1) of the Act and 19 CFR 351.216(b), we are initiating a changed circumstances review. Although petitioners have expressed a lack of interest in the order with respect to the product in question, they did not claim that they represent substantially all of the production of the domestic like product, nor has the Department made such a determination. Therefore, the Department is not, at this time, preliminarily revoking the AD order with respect to the product in question pursuant to 19 CFR 351.222(g)(1)(i). Interested parties are invited to comment on this initiation, or to demonstrate whether petitioners, other domestic interested parties, or other producers of LDLP account for substantially all of the production of the domestic like product.

Public Comment

Interested parties may submit comments that the Department will take into account in the preliminary results of this review. The due date for filing any such comments is no later than 15 days after publication of this notice. Responses to those comments may be submitted not later than seven days following submission of the comments. All written comments must be submitted in accordance with 19 CFR 351.303.

The Department will publish in the Federal Register a notice of preliminary results of changed circumstances reviews in accordance with 19 CFR 351.221(b)(4) and 351.221(c)(3)(i), which will set forth the Department's preliminary factual and legal conclusions. Pursuant to 19 CFR 351.221(b)(4)(ii), interested parties will have an opportunity to comment on the preliminary results. The Department will issue its final result of review in accordance with the time limits set forth in 19 CFR 351.216(e).

This notice is published in accordance with sections 751(b)(1) and of the Act and section 351.221(b) of the Department's regulations.

Dated: August 7, 2006.
Joseph A. Spetrini,
Acting Assistant Secretary for Import Administration.

[FR Doc. E6-13271 Filed 8-11-06; 8:45 am]

BILLING CODE 3510-DS-S